ENVIRONMENTAL PROTECTION AGENCY

[FRL-9933-36—Region 1]

Notice of a Re-Opening of the Public Comment Period on Select Sections of the Draft Small Municipal Separate Storm Sewer System (MS4) NPDES General Permit—New Hampshire

AGENCY: Environmental Protection Agency (EPA).

ACTION: Notice of reopening of a public comment period.

SUMMARY: The Director of the Office of Ecosystem Protection, EPA-New England, is reopening the public comment period for certain provisions of the draft National Pollutant Discharge Elimination System (NPDES) general permit for discharges from small Municipal Separate Storm Sewer Systems (MS4s) to certain waters of the State of New Hampshire, originally released as draft February 12, 2013. The reopened comment period applies to the following sections only: Section 2.1.1, Section 2.2 (including all subsections) and Section 2.3.6 (including all subsections), Appendix F (excluding attachments) and Appendix H (excluding attachments). The reopening of this notice is pursuant to 40 CFR 124.14.

DATES: Comment on the draft general permits must be received on or before November 2, 2015.

Any interested person may file a written response to material filed by any other person during this comment period. These must be received November 20, 2015.

Public Hearing Information: EPA will hold a public hearing, if necessary, in accordance with 40 CFR 124.12 and will provide interested parties with the opportunity to provide written and/or oral comments for the official administrative record.

ADDRESSES: Comments on the modified sections of the draft general permits shall be submitted by one of the following methods:

(1) Email: tedder.newton@epa.gov or

(2) Mail: Newton Tedder, US EPA—Region 1, 5 Post Office Square—Suite 100, Mail Code OEP06-4, Boston, MA 02109-3912

No facsimiles (faxes) will be accepted.

The draft permit is based on an administrative record available for public review at EPA—Region 1, Office of Ecosystem Protection, 5 Post Office Square—Suite 100, Boston, Massachusetts 02109-3912. A reasonable fee may be charged for copying requests. The statement of basis for the modified sections of the draft general permit sets forth principal facts and the significant factual, legal, methodological and policy questions considered in the development of these sections of the draft permit and is available upon request. A brief summary is provided as SUPPLEMENTARY INFORMATION below.

FOR FURTHER INFORMATION CONTACT: Additional information concerning the draft General Permits may be obtained between the hours of 9 a.m. and 5 p.m. Monday through Friday, excluding holidays, from Newton Tedder, Office of Ecosystem Protection, 5 Post Office Square—Suite 100, Boston, MA 02109-3912; telephone: 617-918-1038; email: tedder.newton@epa.gov.

SUPPLEMENTARY INFORMATION: All NPDES permits must be consistent with applicable state water quality standards and regulations. Since the release of the original draft general permit, NHDES has made changes to their water quality standards. On November 22, 2014, Env-Wq 1701.03, “Compliance Schedules in NPDES Permits” was adopted. The rule allows for compliance schedules to be included in NPDES permits. EPA has amended the language in Section 2.1.1, Section 2.2, and Appendix F and has added specific schedules leading to compliance with water quality standards consistent with Env-Wq 1701.03 and 40 CFR 122.47.

Additionally, EPA received numerous comments on Section 2.2 and Appendix H seeking clarity on the proposed requirements. Accordingly, EPA has revised Section 2.2 and Appendix H to provide clarity of permit requirements and certainty on applicability of permit provisions.

EPA also received multiple comments on Section 2.3.6 seeking clarification on requirements, closer adherence to state law and a reduced administrative burden. EPA has revised Section 2.3.6 to address these comments.

The proposed language changes to Section 2.1.1, Section 2.2, Section 2.3.6, Appendix F and Appendix H of the New Hampshire Draft Small MS4 Permit along with statement of basis for the proposed changes can be found at http://www.epa.gov/region1/npdes/stormwater/MS4_2013_NH.html. In addition, all comments received on the proposed language modifications will be posted on the same Web site.

A comprehensive summary of the basis for the all draft permit conditions including the applicable statutory and regulatory authority is included in the original fact sheet to the 2013 draft permit available at: http://www.epa.gov/region1/npdes/stormwater/nh/2013/NHMS4-FactSheet-2013-WithAttachments.pdf. EPA will consider and respond to all significant comments on these reopened sections before taking final action. All persons, including applicants, who believe any of the proposed modifications identified in this notice are inappropriate must raise all reasonably ascertainable issues and submit all reasonably available arguments supporting their position by the close of the public comment period. Any supporting material which is submitted shall be included in full and may not be incorporated by reference, unless they are already a part of the administrative record in this proceeding, or consist of State or Federal statutes and regulations, EPA documents of general applicability, or other generally available reference materials.

Authority: This action is being taken under the Clean Water Act, 33 U.S.C. 1251 et seq.

Dated: August 25, 2015.
Deborah A. Szaro,
Deputy Regional Administrator, Region 1.

[FR Doc. 2015-21631 Filed 8-31-15; 8:45 am]

BILLING CODE 6560-50-P